DEPARTMENT OF COMMERCE

International Trade Administration

Information and Communication Technologies and Services Trade Mission to Singapore and Vietnam March 6-10, 2017

AGENCY: International Trade Administration, Department of Commerce.

ACTION: Notice.

SUMMARY:

Mission Description

The United States Department of Commerce, International Trade Administration (ITA) is organizing an Informational and Technologies (ICT) Trade Mission to Singapore and Vietnam from March 6-10th, 2017. The purpose of the mission is to introduce U.S. firms to Singapore and Vietnam's rapidly expanding ICT sector, and to assist U.S. companies in pursuing export opportunities in this sector. The mission is designed for U.S. ICT companies. The mission also will help U.S. companies already doing business in Singapore and Vietnam increase their footprint and deepen their business interests. With the Administration's emphasis on enacting the Trans-Pacific Partnership, medium and long-term opportunities will continue for American companies that strategically position in these markets. The mission will not be an executive-led mission.

This trade mission focus on recruiting U.S. veteran-owned companies 1 2 and others who play a significant role in information communication and telecom infrastructure development, by helping U.S. companies get ahead of their global competitors in the ASEAN markets that present excellent market opportunities in these sectors.

¹ Formed by veterans of the U.S. Armed Forces, Vets Go Global is a team of U.S. Commercial Service international trade specialists dedicated to helping other U.S. veterans connect to business opportunities around the world. The Vets Go Global team is the main organizer of this trade mission.

² Despite the veteran-owned business focus, all companies are encouraged to apply. Recruitment will not be limited to veteran-owned businesses, and non-veteran-owned status will not determine eligibility and denial for the mission.

Target sectors holding high potential for U.S exporters include fixed and mobile telephone networks, Internet, satellites, broadcasting, Information Technology (IT) hardware and software, and in any sub-sector related to the telecommunications industry. Mission participants will benefit from country briefings, one-on-one appointments with prospective business contacts, and high-level meetings with government officials and business leaders.

The mission will help participating firms and associations/organizations gain market insights, make industry contacts, solidify business strategies, and advance specific projects, with the goal of increasing U.S. ICT exports. The mission will include market briefings, one-on-one business appointments with pre-screened potential buyers, agents, distributors, industry leaders, and joint venture partners; meetings with host governments; and networking events. Participating in an official U.S. industry delegation, rather than traveling on their own, will enhance the companies' ability to identify opportunities in Vietnam and Singapore.

Schedule

Arrive in Singapore March 4th and 5th

Monday, March 6, 2017

• Briefing by US Embassy Singapore officials

• Briefing by Singapore Government/Industry officials

• One-on-one meetings with Singapore companies

• Networking Reception

Hanoi, Vietnam

Wednesday, March 8, 2017

• Briefing by U.S. Embassy officials

• Briefing by Vietnamese Government

• One-on-one meetings with Vietnamese companies

• Reception at Ambassador Residence

Thursday, March 9, 2017

Ho Chi Minh City

Friday, March 10, 2017

• Briefing by U.S. Consulate officials

• Briefing by Vietnamese Government

• One-on-one meetings with Vietnamese companies

Web site

Please visit our official mission Web site for more information: http://export.gov/trademissions/eg_main_023185.asp.

Participation Requirements

All parties interested in participating in the trade mission must complete and submit an application package for consideration by the U.S. Department of Commerce. All applicants will be evaluated on their ability to meet certain conditions and best satisfy the selection criteria as outlined below. A minimum of ten firms and a maximum of 12 firms, service providers and/or trade associations/organizations will be selected from the applicant pool to participate in the trade mission.

Fees and Expenses

After an applicant has been selected to participate in the mission, a payment to the Department of Commerce in the form of a participation fee is required. Upon notification of acceptance to participate, those selected have 5 business days to submit payment or the acceptance may be revoked.

The participation fee for the trade mission to Singapore and Vietnam alone is $3,200.00 for small or medium-sized enterprises (SME) ³ and $5,300.00 for large firms and trade associations/organizations. The fee for each additional representative (large firm or SME or trade association/organization) is $750.00. The rate for additional/optional meetings in Ho Chi Minh City is not included, but would be the formal established GKS rates for one-day worth of scheduled meetings ($700).

³ An SME is defined as a firm with 500 or fewer employees or that otherwise qualifies as a small business under SBA regulations (see http://www.sba.gov/services/contractingopportunities/sizestandardstopics/index.html). Parent companies, affiliates, and subsidiaries will be considered when determining business size. The dual pricing reflects the Commercial Service's user fee schedule that became effective May 1, 2008 (see http://www.export.gov/newsletter/march2008/initiatives.html for additional information).

Application

All interested firms and associations may register via the following link: https://emenuapps.ita.doc.gov/ePublic/TM/7R0N.

Exclusions

The mission fee does not include any personal travel expenses such as lodging, most meals, local ground transportation (except for transportation to and from meetings, and airport transfers during the mission), and air transportation. Participants will, however, be able to take advantage of U.S. Government rates for hotel rooms. Business or entry visas may be required to participate on the mission. Applying for and obtaining such visas will be the responsibility of the mission participant. Government fees and processing expenses to obtain such visas are not included in the participation fee. However, the Department of Commerce will provide instructions to each participant on the procedures required to obtain necessary business visas.

Timeframe for Recruitment and Application

Mission recruitment will be conducted in an open and public manner, including publication in the Federal Register, posting on the Commerce Department trade mission calendar (http://www.export.gov/trademissions/) and other Internet Web sites, press releases to general and trade media, direct mail, broadcast fax, notices by industry trade associations and other multiplier groups, and publicity at industry meetings, symposia, conferences, and trade shows.

Recruitment for this mission will begin immediately and conclude no later than January 8, 2017. The U.S. Department of Commerce will review applications and make selection decisions on rolling basis. Applications received after January 8, 2017 will be considered only if space and scheduling constraints permit.

Contact Information

U.S. Contact

Ashish Vaid, International Trade Specialist, US & Foreign Commercial Service, 290 Broadway, Suite 1312, New York, NY 10007, t: 646-385-4503, ashish.vaid@trade.gov.

Dylan Daniels, International Trade Specialist, US & Foreign Commercial Service, 22 N. Front St., Suite 200, Memphis, TN 38103, t: 901-544-0930, dylan.daniels@trade.gov.

Singapore

Swee Hoon Chia, Senior Commercial Specialist, U.S. Department of Commerce, U.S. Commercial Service, U.S. Embassy Singapore, Tel: +65 6476-9037, Direct: +65 6476-9403, Fax: + 65 6476-9080, Email: sweehoon.chia@trade.gov.

Vietnam

Stuart Schaag, Senior Commercial Officer, U.S. Department of Commerce, U.S. Commercial Service, U.S. Consulate Embassy Hanoi, Tel: 84-4-3850-5199, Email: Stuart.Schaag@trade.gov.

Frank Spector,
Trade Mission Programs.

[FR Doc. 2016-15484 Filed 6-29-16; 8:45 am]

BILLING CODE 3510-DR-P